DEPARTMENT OF TRANSPORTATION

Federal Motor Carrier Safety Administration

[Docket No. FMCSA-2024-0200]

Drug and Alcohol Clearinghouse Requirements; Driver Qualification Requirements: Waste Management Holdings, Inc. Application for Exemption

AGENCY: Federal Motor Carrier Safety Administration (FMCSA), Department of Transportation (DOT).

ACTION: Notice of application for exemption; request for comments.

SUMMARY: FMCSA announces that it has received an application from Waste Management Holdings, Inc. (WMH), for an exemption from certain driver qualification requirements and drug and alcohol clearinghouse regulations when its drivers are transferred among two or more WMH carriers with different USDOT numbers. The requested exemption would remove the administrative burden of requalifying already-qualified drivers every time they are reassigned among related WMH motor carrier affiliates. FMCSA requests public comments on WMH's application for an exemption.

DATES: Comments must be received on or before September 23, 2024.

ADDRESSES: You may submit comments identified by Federal Docket Management System Number FMCSA-2024-0200 by any of the following methods:

• Federal eRulemaking Portal: www.regulations.gov. See the Public Participation and Request for Comments section below for further information.

• Mail: Dockets Operations, U.S. Department of Transportation, 1200 New Jersey Avenue SE, West Building, Ground Floor, Room W12-140, Washington, DC 20590-0001.

• Hand Delivery or Courier: West Building, Ground Floor, 1200 New Jersey Avenue SE, Washington, DC, between 9 a.m. and 5 p.m. E.T., Monday through Friday, except Federal holidays.

• Fax: (202) 493-2251.

Each submission must include the Agency name and the docket number (FMCSA-2024-0200 for this notice. Note that DOT posts all comments received without change to www.regulations.gov, including any personal information included in a comment. Please see the Privacy Act heading below.

Docket: If you do not have access to the internet, you may view the docket by visiting Docket Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

Privacy Act: In accordance with 49 U.S.C. 31315(b), DOT solicits comments from the public to better inform its exemption process. DOT posts these comments, including any personal information the commenter provides, to www.regulations.gov as described in the system of records notice DOT/ALL-14 FDMS, which can be reviewed at https://www.transportation.gov/privacy. The comments are posted without edit and are searchable by the name of the submitter.

FOR FURTHER INFORMATION CONTACT: Ms. Pearlie Robinson, Driver and Carrier Operations Division; Office of Carrier, Driver and Vehicle Safety Standards, FMCSA; (202) 366-4225; or pearlie.robinson@dot.gov. If you have questions on viewing or submitting material to the docket, contact Dockets Operations at (202) 366-9826.

SUPPLEMENTARY INFORMATION:

I. Public Participation and Request for Comments

FMCSA encourages you to participate by submitting comments and related materials.

Submitting Comments

If you submit a comment, please include the docket number for this notice (FMCSA-2024-0200), indicate the specific section of this document to which the comment applies, and provide a reason for your suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number “FMCSA-2024-0200” in the “Keyword” box, and click “Search.” When the new screen appears, click on the “Comment” button and type your comment into the text box in the following screen. Choose whether you are submitting your comment as an individual or on behalf of a third party and then submit. If you submit your comments by mail or hand delivery, submit them in an unbound format, no larger than 8½ by 11 inches, suitable for copying and electronic filing.

Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analyses. The Agency must provide an opportunity for public comment on the request.

The Agency reviews safety analyses and public comments submitted and determines whether granting the exemption would likely maintain a level of safety equivalent to, or greater than, the level that would be achieved by the current regulation (49 CFR 381.305(a)). The Agency must publish its decision in the Federal Register (49 CFR 381.315(b)). If granted, the notice will identify the regulatory provision(s) from which the applicant will be exempt, the effective period, and all terms and conditions of the exemption (49 CFR 381.315(c)(1)). If the exemption is denied, the notice will explain the reasons for the denial (49 CFR 381.315(c)(2)).

III. Applicant's Request

WMH is seeking an exemption from certain driver qualification requirements in 49 CFR part 391 and from the query requirements of the drug and alcohol clearinghouse rules in 49 CFR part 382. The exemption would apply to drivers transferred among two or more of WMH's affiliated carriers with different USDOT numbers.

WMH reports that it has been providing residential and commercial trash and recycling collection and waste disposal services to millions of customers throughout the country for 50 years. To perform these services, WMH employs tens of thousands of commercial motor vehicle drivers among its affiliates, which operate under 83 USDOT numbers. It has centralized USDOT compliance efforts across all its related carriers under its Employment Screening Program (ESP). Critical compliance processes and documents are managed through centralized information technology systems. WMH states that this system provides WMH unmatched compliance-related visibility across all related entities.

WMH asserts that the existing driver qualification and drug and alcohol testing rules fail to contemplate the types of intercompany driver transfers that WMH's operations necessitate, leading to severe administrative inefficiencies, record duplication, and an inability to respond timely to surges in demand for waste removal, which often occur following natural disasters, public health emergencies (such as the recent COVID pandemic), mass gatherings or events, infrastructure failures, community clean-up efforts, industrial accidents or spills, or regional disruptions.

The time the driver works for the transferee carrier varies by circumstance but is rarely less than seven (7) days. Accordingly, WMH is unable to take advantage of the driver qualification exemption in 49 CFR 391.65. WMH must therefore require transferred drivers to complete new employment applications, contact previous employers, run new motor vehicle records, query the drug and alcohol clearinghouse, analyze whether pre-employment drug testing is necessary and perform testing if required, and create new qualification files, all of which can take several days to complete and may delay or deter the transfer.

WMH contends that it maintains an equivalent level of visibility into the drug/alcohol clearinghouse status of all drivers across its entire organization. This is achieved through the centralization of its driver qualification and drug/alcohol testing processes, policies, and documents under its ESP Department across all its affiliated carriers. If granted, the requested exemptions would remove the burden of administrative processes required by the regulations and allow WMH the ability to move drivers among related motor carrier affiliates without having to requalify them.

A copy of the exemption application is available for review in the docket for this notice.

IV. Request for Comments

In accordance with 49 U.S.C. 31315(b), FMCSA requests public comment from all interested persons on WMH's application for an exemption from the driver qualification requirements in 49 CFR part 391 and the drug and alcohol clearinghouse query requirements in 49 CFR part 382. All comments received before the close of business on the comment closing date indicated at the beginning of this notice will be considered and will be available for examination in the docket at the location listed under the Addresses section of this notice. Comments received after the comment closing date will be filed in the public docket and will be considered to the extent practicable. In addition to late comments, FMCSA will also continue to file, in the public docket, relevant information that becomes available after the comment closing date. Interested persons should continue to examine the public docket for new material.

Larry W. Minor,
Associate Administrator for Policy.

[FR Doc. 2024-18781 Filed 8-21-24; 8:45 am]

BILLING CODE 4910-EX-P